ENVIRONMENTAL PROTECTION AGENCY

[EPA-R10-OAR-2020-0724; FRL-10019-86-Region 10]

Proposed Information Collection Request; Comment Request; Federal Implementation Plans Under the Clean Air Act for Indian Reservations in Idaho, Oregon and Washington

AGENCY: Environmental Protection Agency (EPA).

ACTION: Notice.

SUMMARY: The Environmental Protection Agency (EPA or the Agency) is planning to submit an information collection request (ICR), Proposed Information Collection Request; Comment Request; Federal Implementation Plans under the Clean Air Act for Indian Reservations in Idaho, Oregon and Washington to the Office of Management and Budget (OMB) for review and approval in accordance with the Paperwork Reduction Act. Before doing so, EPA is soliciting public comments on specific aspects of the proposed information collection as described in this document. This is a proposal to extend the current ICR, which expires on August 31, 2021. An Agency may not conduct or sponsor, and a person is not required to respond to a collection of information, unless it displays a currently valid OMB control number.

DATES: Comments must be submitted on or before April 13, 2021.

ADDRESSES: Submit your comments, referencing Docket ID No. EPA-R10-OAR-2020-0724, online using https://www.regulations.gov.

Out of an abundance of caution for members of the public and our staff, the EPA Docket Center and Reading Room is closed to the public, with limited exceptions, to reduce the risk of transmitting COVID-19. Our Docket Center staff will continue to provide remote customer service via email, phone, and webform. We encourage the public to submit comments via https://www.regulations.gov/ or email, as there may be a delay in processing mail and faxes. Hand deliveries and couriers may be received by scheduled appointment only. For further information on EPA Docket Center services and the current status, please visit us online at https://www.epa.gov/dockets.

The EPA's policy is that all comments received will be included in the public docket without change including any personal information provided, unless the comment includes profanity, threats, information claimed to be Confidential Business Information, or other information whose disclosure is restricted by statute.

FOR FURTHER INFORMATION CONTACT: Sarah Frederick, Air and Radiation Division, telephone number: (206) 553-1601; email address: Frederick.Sarah@epa.gov.

SUPPLEMENTARY INFORMATION: Supporting documents which explain in detail the information that EPA will be collecting are available in the public docket for this ICR. The docket can be viewed online at https://www.regulations.gov. For additional information about EPA's public docket, visit https://www.epa.gov/dockets.

Pursuant to section 3506(c)(2)(A) of the Paperwork Reduction Act, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: EPA promulgated Federal Implementation Plans (FIPs) under the Clean Air Act for Indian reservations located in Idaho, Oregon, and Washington in 40 CFR part 49 (70 FR 18074, April 8, 2005). The FIPs in the final rule, also referred to as the Federal Air Rules for Indian Reservations in Idaho, Oregon, and Washington (FARR), include information collection requirements associated with the partial delegation of administrative authority to a Tribe in 40 CFR 49.122; the rule for limiting visible emissions at 40 CFR 49.124; fugitive particulate matter rule in 40 CFR 49.126; the wood waste burner rule in 40 CFR 49.127; the rule for limiting sulfur in fuels in 40 CFR 49.130; the rule for open burning in 40 CFR 49.131; the rules for general open burning permits, agricultural burning permits, and forestry and silvicultural burning permits in 40 CFR 49.132, 49.133, and 49.134; the rule for emissions detrimental to human health and welfare in 40 CFR 49.135; the registration rule in 40 CFR 49.138; and the rule for non-title V operating permits in 40 CFR 49.139. EPA uses this information to manage the activities and sources of air pollution on the Indian reservations in Idaho, Oregon, and Washington. EPA believes these information collection requirements are appropriate because they will enable EPA to develop and maintain accurate records of air pollution sources and their emissions, track emissions trends and changes, identify potential air quality problems, allow EPA to issue permits or approvals, and ensure appropriate records are available to verify compliance with these FIPs. The information collection requirements listed above are all mandatory. Regulated entities can assert claims of business confidentiality and EPA will address these claims in accordance with the provisions of 40 CFR part 2, subpart B.

Form Numbers:

The forms associated with this ICR are:

EPA Form 7630-1 Nez Perce Reservation Air Quality Permit: Agricultural Burn

EPA Form 7630-2 Nez Perce Reservation Air Quality Permit: Forestry Burn

EPA Form 7630-3 Nez Perce Reservation Air Quality Permit: Large Open Burn

EPA Form 7630-4 Initial or Annual Source Registration

EPA Form 7630-5 Report of Change of Ownership

EPA Form 7630-6 Report of Closure

EPA Form 7630-7 Report of Relocation

EPA Form 7630-8 Small Burn Air Quality Permit Application

EPA Form 7630-9 Non-Title V Operating Permit Application Form

EPA Form 7630-10 Umatilla Indian Reservation: Agricultural Burn Permit Application

EPA Form 7630-11 Umatilla Indian Reservation: Forestry Burn Permit Application

EPA Form 7630-12 Umatilla Indian Reservation: Large Open Burn Permit Application

The forms listed above are available for review in the EPA docket.

Respondents/affected entities: Respondents or entities potentially affected by this action include owners and operators of air emission sources in all industry groups and tribal governments, located in the identified Indian reservations.

Respondent's obligation to respond: Respondents obligation to respond is mandatory. See 40 CFR 49.122, 49.124, 49.126, 49.130 through 135, 49.138, and 49.139.

Estimated number of respondents: 1,732 (total).

Frequency of response: Annual or occasional.

Total estimated burden: 3,601 hours (per year). Burden is defined at 5 CFR 1320.03(b).

Total estimated cost: $286,888 (per year), includes $0 annualized capital or operation & maintenance costs.

Changes in Estimates: There is a decrease of 614 hours in the total estimated respondent burden compared with the ICR currently approved by OMB. This decrease is based on input from source consultations, supersedence of the provisions of one rule (49.139), and information we have learned about the source universe through implementing the rules since the ICR was updated in 2018.

Dated: February 4, 2021.
Krishnaswamy Viswanathan,
Director, Air and Radiation Division, Region 10.

[FR Doc. 2021-02848 Filed 2-11-21; 8:45 am]

BILLING CODE 6560-50-P